FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011752.

Title: Atlantsskip ehf/Samskip hf Space Charter Agreement.

Parties: Atlantsskip ehf. Samskip hf.

Synopsis: The proposed agreement authorizes Atlantsskip to provide Samskip with space on its vessels for sailings between Iceland and certain U.S. Atlantic coast ports. Samskip will provide Atlantsskip with certain inland services in Norfolk, Virginia.

Agreement No.: 011753.

Title: HUAL/HMM Space Charter Agreement.

Parties: HUAL A/S. Hyundai Merchant Marine Co., Ltd.

Synopsis: The proposed agreement authorizes the parties to charter space for rolling stock to each other on as “as-needed/as available” basis in the trade from the Republic of Korea to the U.S. Atlantic, Gulf and Pacific coasts.

Agreement No.: 011754.

Title: King Ocean/SOL Y Mar Slot Exchange Agreement.

Parties: King Ocean Central America S.A. Sol Y Mar.

Synopsis: The proposed agreement establishes a space charter and sailing agreement in the trade between the U.S. North Atlantic and Guatemala and Honduras. The parties have requested expedited review.

Dated: March 16, 2001.
By Order of the Federal Maritime Commission.
Bryant L. VanBrakle,
Secretary.

[FR Doc. 01-7031 Filed 3-20-01; 8:45 am]

BILLING CODE 6730-01-P